DEPARTMENT OF LABOR

Employment and Training Administration

[TA-W-53,891]

Kokusai Semiconductor Equipment Corporation, Portland Region Office, Portland, OR; Notice of Termination of Investigation

Pursuant to section 221 of the Trade Act of 1974, as amended, an investigation was initiated on December 29, 2003 in response to a petition filed by a company official on behalf of workers of Kokusai Semiconductor Equipment Corporation, Portland Region Office, Portland, Oregon.

All workers were separated from the subject firm more than one year before the date of the petition. Section 223 (b) of the Act specifies that no certification may apply to any worker whose last separation occurred more than one year before the date of the petition. Consequently, further investigation in this case would serve no purpose, and the investigation has been terminated.

Signed at Washington, DC, this 29th day of January, 2004.
Elliott S. Kushner,
Certifying Officer, Division of Trade Adjustment Assistance.

[FR Doc. 04-3324 Filed 2-13-04; 8:45 am]

BILLING CODE 4510-30-P